DEPARTMENT OF HEALTH AND HUMAN SERVICES

Agency for Healthcare Research and Quality

Notice of Meetings

In accordance with section 10(d) of the Federal Advisory Committee Act (5 U.S.C., Appendix 2), announcement is made of Special Emphasis Panel meetings.

A Special Emphasis Panel (SEP) is a committee of experts selected to conduct scientific reviews of applications related to their areas of expertise. The committee members are drawn from a list of experts designated to serve for particular individual meetings rather than for extended fixed terms of services

Substantial segments of the upcoming SEP meetings listed below will be closed to the public in accordance with the Federal Advisory Committee Act, section 10(d) of 5 U.S.C., Appendix 2 and 5 U.S.C., 552b(c)(6). Grant applications are to be reviewed and discussed at these meetings. These discussions are likely to include personal information concerning individuals associated with these applications. This information is exempt from mandatory disclosure under the above-cited statutes.

1. Name of SEP: Centers of Excellence for Patient Safety Research and Practice.

Date: June 18-19, 2001 (Open on June 18 from 8 a.m. to 8:15 a.m. and closed for remainder of the meeting).

Place: Four Point Sheraton Hotel, 8400 Wisconsin Avenue, Conference Room TBD, Bethesda, Maryland 20814.

2. Name of SEP: Developmental Centers for Evaluation and Research in Patient Safety.

Date: June 20-21, 2001 (Open on June 20 from 8 a.m. to 8:15 a.m. and closed for remainder of the meeting).

Place: Four Point Sheraton Hotel, 8400 Wisconsin Avenue, Conference Room TBD, Bethesda, Maryland 20814.

3. Name of SEP: Primary Care PBRN: Competitive Continuations.

Date: July 13, 2001 (Open on July 13 from 8 a.m. to 8:15 a.m. and closed for remainder of the meeting).

Place: Four Point Sheraton Hotel, 8400 Wisconsin Avenue, Conference Room TBD, Bethesda, Maryland 20814.

4. Name of SEP: Building Research Infrastructure and Capacity (BRIC) Program.

Date: July 30-31, 2001 (Open on July 30 from 8 a.m. to 8:15 a.m. and closed for remainder of the meeting).

Place: Four Point Sheraton Hotel, 8400 Wisconsin Avenue, Conference Room TBD, Bethesda, Maryland 20814.

5. Name of SEP: Clinical Informatics to Promote Patient Safety RFA.

Date: August 2-3, 2001 (Open on August 2 from 8 a.m. to 8:15 a.m. and closed for remainder of the meeting).

Place: Four Point Sheraton Hotel, 8400 Wisconsin Avenue, Conference Room TBD, Bethesda, Maryland 20814.

6. Name of SEP: Improving Patient Safety: Health Systems Reporting, Analysis and Safety Improvement Research Demonstrations.

Date: August 6-7, 2001 (Open on August 6 from 8 a.m. to 8:15 a.m. and closed for remainder of the meeting).

Place: Four Point Sheraton Hotel, 8400 Wisconsin Avenue, Conference Room TBD, Bethesda, Maryland 20814.

7. Name of SEP: Patient Safety Research Dissemination and Education.

Date: August 16-17, 2001 (Open on August 16 from 8 a.m. to 8:15 a.m. and closed for remainder of the meeting).

Place: Four Point Sheraton Hotel, 8400 Wisconsin Avenue, Conference Room TBD, Bethesda, Maryland 20814.

8. Name of SEP: The Effect of Health Care Working Conditions on Quality of Care.

Date: August 23-24, 2001 (Open on August 23 from 8 a.m. to 8:15 a.m. and closed for remainder of the meeting).

Place: Four Point Sheraton Hotel, 8400 Wisconsin Avenue, Conference Room TBD, Bethesda, Maryland 20814.

Contact Person: Anyone wishing to obtain a roster of members of minutes of these meetings should contact Ms. Jenny Griffith, Committee management Officer, Office of Research Review, Education and Policy, AHRQ, 2101 East Jefferson Street, Suite 400, Rockville, Maryland 20852, Telephone (301) 594-1847.

Agenda items for these meetings are subject to change as priorities dictate.

Dated: May 14, 2001.
John M. Eisenberg,
Director.

[FR Doc. 01-12753 Filed 5-18-01; 8:45 am]

BILLING CODE 4160-90-M